DEPARTMENT OF HOUSING AND URBAN DEVELOPMENT

[Docket No. FR-5800-FA-20]

Announcement of Funding Awards; Fair Housing Initiatives Program Fiscal Year 2014

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department under the Notice of Funding Availability (NOFA) for the Fair Housing Initiatives Program (FHIP) for Fiscal Year (FY) 2014. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 Seventh Street SW., Room 5230, Washington, DC 20410. Telephone number (202) 402-7095 (this is not a toll-free number). Persons with hearing or speech impairments may access this number through TTY by calling the toll-free Federal Relay Service at 800-877-8339.

SUPPLEMENTARY INFORMATION: Title VIII of the Civil Rights Act of 1968, as amended, 42 U.S.C. 3601-19 (the Fair Housing Act) provides the Department with responsibility to accept and investigate complaints alleging discrimination based on race, color, religion, sex, handicap, familial status or national origin in the sale, rental, or financing of most housing. In addition, the Fair Housing Act directs the Department to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

On July 3, 2014, the Department published its FY 2014 NOFA, which announced the availability of approximately $38,300,000 to be utilized for FHIP projects and activities. Funding availability for discretionary grants for the FHIP NOFA included: The Private Enforcement Initiative (PEI) ($29,275,000), the Education and Outreach Initiative (EOI) ($5,450,000), and the Fair Housing Organizations Initiative (FHOI) ($3,575,000). This Notice announces grant awards for the FY 2014 FHIP NOFA of approximately $38,300,000.

For the FY 2014, the Department reviewed, evaluated and scored the applications received based on the criteria in the FY 2014 FHIP NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: April 9, 2015.
Gustavo Velasquez,
Assistant Secretary for Fair Housing and Equal Opportunity.

Appendix A

FY 2014 Fair Housing Initiatives Program Awards

Applicant name | Contact | Region | Award amount
Education and Outreach/Affirmatively Furthering Fair Housing Component
Champlain Valley Office of Economic Opportunity, Inc., 255 South Champlain Street, Suite 9, Burlington, Chittenden, VT 05401 | Ted Wimpey, 802-660-3456 | 1 | $125,000.00
Connecticut Fair Housing Center, Inc., 221 Main Street, Hartford, CT 06106 | Erin Kemple, 860-247-4400 | 1 | 125,000.00
Legal Aid Society of Palm Beach County, Inc., 423 Fern Street, Suite 200, West Palm Beach, FL 33401 | Robert Bertisch, 561-655-8944 | 4 | 125,000.00
Latin United Community Housing Association (LUCHA), 3541 W. North Avenue, Chicago, IL 60647 | Juan Linares, 773-276-5338 | 5 | 125,000.00
Education and Outreach/General Component
South Coast Fair Housing Inc., 721 County Street, New Bedford, MA 02740 | Kristina da Fonseca, 774-473-8333 | 1 | 125,000.00
Suffolk University, 8 Ashburton Place, Boston, MA 02108 | Cindy Vachon, 617-725-4145 | 1 | 124,921.00
Brooklyn Legal Services Corporation A, 260 Broadway, Suite 2, Brooklyn, NY 11211 | Gloria Ramon, 718-487-2328 | 2 | 125,000.00
Fair Housing Council of Northern New Jersey, 131 Main Street, Suite 140, Hackensack, NJ 07601 | Lee Porter, 201-489-3552 | 2 | 125,000.00
Long Island Housing Partnership, Inc., 180 Oser Avenue, Hauppauge, NY 11788 | Sharon Mullon, 631-435-4710 | 2 | 74,999.00
Westchester Residential Opportunities, Inc., 470 Mamaroneck Avenue, Suite 410, White Plains, NY 10605 | Geoffrey Anderson, 914-428-4507 | 2 | 14,476.00
Southwestern Pennsylvania Legal Services, Inc., 10 West Cherry Ave., Washington, PA 15301 | G. Clayton Nestler, 724-225-6170 | 3 | 125,000.00
The Fair Housing Partnership of Greater Pittsburgh, 2840 Liberty Avenue, Suite 205, Pittsburgh, PA 15222 | Jay Dworin, 412-391-2535 | 3 | 124,915.00
Broward County, FL, Board of County Commissioners, 115 South Andrews Avenue, Fort Lauderdale, FL 33301 | Alan Tiano, 954-357-5358 | 4 | 114,578.00
Charleston Trident Urban League, Inc., 1064 Gardner Road, Suite 2016, Charleston, SC 29407 | Otha Meadows, 843-769-8173 | 4 | 125,000.00
Community Legal Services of Mid-Florida, Inc., 128 Orange Avenue, Daytona Beach, FL 32119 | Suzanne Edmunds, 386-255-6573 | 4 | 125,000.00
Elizabeth City State University, 1704 Weeksville Road, Elizabeth City, NC 27909 | Morris Autry, 252-335-3702 | 4 | 125,000.00
Mississippi Center for Justice, 5 Old River Place, Jackson, MS 39202 | John Jopling, 228-435-7284 | 4 | 125,000.00
West Tennessee Legal Services, Inc., 210 West Main Street, Jackson, TN 38301 | Jane Jarvis, 731-426-1301 | 4 | 125,000.00
Central Ohio Fait Housing Association, Inc., 605 N. High Street, #V57, Columbus, OH 43215 | Jim McCarthy, 614-344-4663 | 5 | 125,000.00
Fair Housing Center of West Michigan, 20 Hall Street SE., Grand Rapids, MI 49507 | Nancy Haynes, 616-451-2980 | 5 | 125,000.00
Fair Housing Opportunities of NW Ohio, 432 N. Superior Street, Toledo, OH 43604 | Mike Fehlen, 419-243-6163 | 5 | 125,000.00
Housing Opportunities Made Equal of Greater Cincinnati, Inc., 2400 Reading Road, Suite 118, Cincinnati, OH 45202 | Elizabeth Brown, 513-721-4663 | 5 | 124,600.00
Ohio State Legal Services Association, 555 Buttles Avenue, Columbus, OH 43215 | Stephanie Harris, 614-824-2601 | 5 | 125,000.00
Open Communities, 614 Lincoln Avenue, Winnetka, IL 60076 | Gail Schechter, 847-501-5760 | 5 | 124,453.00
John Marshall Law School, 315 S. Plymouth Court, Chicago, IL 60604 | Michael Seng, 312-986-2397 | 5 | 124,965.55
Greater Houston Fair Housing Center, Inc., P.O. Box 292, 1900 Kane Street, Room 111, Houston, TX 77001 | Daniel Bustamente, 713-641-3247 | 6 | 124,972.00
Greater New Orleans Fair Housing Action Center, 404 S. Jefferson Davis Parkway, New Orleans, LA 70119 | James Perry, 504-596-2100 | 6 | 125,000.00
High Desert Fair Housing Consultants, Inc., P.O. Box 1253, 536 Canal Blvd. SW., Los Lunas, NM 87031 | Railly McDaniel | 6 | 125,000.00
Fair Housing Council of Riverside County, Inc., 3933 Mission Inn Avenue, Riverside, CA 92501 | Rose Mayes, 951-682-6581 | 9 | 125,000.00
Law Foundation of Silicon Valley, 152 North Third Street, 3rd Floor, San Jose, CA 95112 | Kyra Kazantzis, 408-280-2401 | 9 | 125,000.00
Legal Aid Society of San Diego, Inc., 110 South Euclid Avenue, San Diego, CA 92114 | Branden Butler, 619-471-2623 | 9 | 125,000.00
Southwest Fair Housing Council, 2030 Broadway Blvd., Suite 101, Tucson, AZ 85719 | Jay Young, 520-798-1568 | 9 | 123,555.00
Northwest Fair Housing Alliance, 35 W. Main, Suite 250, Spokane, WA 99201 | Marley Hochendoner, 509-209-2667 | 10 | 123,565.00
Education and Outreach Initiative—National Media Campaign Component
National Fair Housing Alliance, 1101 Vermont Avenue NW., Suite 710, Washington, DC 20005 | Catherine Cloud, 202-898-1661 | 3 | 999,990.00
Education and Outreach Initiative/Tester Training Component
Metropolitan Milwaukee Fair Housing Council, 600 East Mason Street, Milwaukee, WI 53202 | William Tisdale, 414-278-1240 | 5 | 499,477.00
Fair Housing Organizations Initiative—Continuing Development Component General
Denver Metro Fair Housing Center, 3401 Quebec Street, Denver, CO 80207 | Arturo Alvarado, 720-279-4291 | 8 | 324,999.00
Alaska Legal Services Corporation, 1016 W. 16th Avenue, Suite 200, Anchorage, AK 99501 | Nikole Nelson, 907-222-4508 | 10 | 250,001.00
Fair Housing Organizations Initiative/Lending Component
Community Legal Aid, Inc., 405 Main Street, Worcester, MA 01608 | Faye Rachlin, 508-425-2794 | 1 | 192,485.00
Brooklyn Legal Services Corp. A, 260 Broadway, Suite 2, Brooklyn, NY 11211 | Gloria Ramon, 718-487-2328 | 2 | 325,000.00
Long Island Housing Services, Inc., 640 Johnson Avenue, Suite 8, Bohemia, NY 11716 | Michelle Santantonio, 631-567-5111 | 2 | 325,000.00
South Brooklyn Legal Services, Inc., 105 Court Street, Brooklyn, NY 11201 | Meghan Faux, 718-246-3276 | 2 | 325,000.00
National Fair Housing Alliance, 1101 Vermont Avenue NW., Suite 710, Washington, DC 20005 | Catherine Cloud, 202-898-1661 | 3 | 324,902.00
Fair Housing Opportunities of NW Ohio, 432 N. Superior Street, Toledo, OH 43604 | Mike Fehlen, 419-243-6163 | 5 | 325,000.00
South Suburban Housing Center, 18220 Harwood Avenue, Homewood, IL 60430 | John Petruszak, 708-957-4674 | 5 | 250,000.00
Greater New Orleans Fair Housing Action Center, Inc., 404 South Jefferson Davis Parkway, New Orleans, LA 70119 | James Perry, 504-596-2100 | 6 | 325,000.00
California Rural Legal Assistance, Inc., 2201 Broadway, Suite 815, Oakland, CA 94612 | Susan Podesta, 530-742-5191 | 9 | 325,000.00
Fair Housing of Marin, 1314 Lincoln Avenue, San Rafael, CA 94901 | Caroline Peattie, 415-457-5025 | 9 | 125,000.00
Inland Mediation Board, 1500 South Haven, Suite 100, Ontario, CA 91730 | Lynne Anderson, 909-984-2254 | 9 | 157,613.00
Private Enforcement Initiative/Multi-Year Component
Community Legal Aid, Inc., 405 Main Street, Worcester, MA 01608 | Faye Rachlin, 508-425-2794 | 1 | 324,214.00
Connecticut Fair Housing Center, Inc., 221 Main Street, Hartford, CT 06106 | Erin Kemple, 860-247-4400 | 1 | 325,000.00
Fair Housing Center of Greater Boston, 59 Temple Place, Boston, MA 02111 | Robert Terrell, 617-399-0491 | 1 | 324,673.00
Housing Discrimination Project, Inc., 57 Suffolk Street, Holyoke, MA 01040 | Meris Bergquiest, 413-530-9796 | 1 | 325,000.00
New Hampshire Legal Assistance, 117 North State Street, Concord, NH 03301 | Daniel Feltes, 603-223-9750 | 1 | 271,061.00
Pine Tree Legal Assistance, 88 Federal Street, Portland, ME 04112 | Nan Heald, 207-774-4753 | 1 | 325,000.00
Suffolk University, 8 Ashburton Place, Boston, MA 02108 | Cindy Vachon, 617-725-4145 | 1 | 324,998.00
Vermont Legal Aid, Inc., 264 North Winooski Avenue, Burlington, Vermont 05402 | Rachel Batterson, 802-863-5620 | 1 | 325,000.00
CNY Fair Housing, Inc., 731 James Street, Suite 200, Syracuse, NY 13203 | Anne Santangelo, 315-471-0420 | 2 | 325,000.00
Fair Housing Council of Northern New Jersey, 131 Main Street, Suite 140, Hackensack, NJ 07601 | Lee Porter, 201-489-3552 | 2 | 302,487.00
Fair Housing Justice Center, Inc., 5 Hanover Square, 17th Floor, New York, NY 10004 | Fred Freiberg, 212-400-8201 | 2 | 324,737.00
Housing Opportunities Made Equal Inc., 1542 Main Street, 3rd Floor, Buffalo, NY 14209 | Scott Gehl, 716-854-1400 | 2 | 325,000.00
Legal Assistance of Western NY, Inc., 1 West Main Street, Suite 400, Rochester, NY 14614 | Louis Prieto, 585-295-5610 | 2 | 298,000.00
Long Island Housing Services, Inc., 640 Johnson Avenue, Suite 8, Bohemia, NY 11716 | Michelle Santantonio, 631-567-5111 | 2 | 325,000.00
MFY Legal Services, Inc., 299 Broadway, New York, NY 10007 | Jeanette Zelhof, 212-417-3727 | 2 | 325,000.00
Silver State Fair Housing Council, 110 W. Arroyo Street, Suite A, Reno, NV 89509 | Katherine Knister, 775-324-0990 | 2 | 325,000.00
South Brooklyn Legal Services, Inc., 105 Court Street, Brooklyn, NY 11201 | Meghan Faux, 718-237-5500 | 2 | 325,000.00
Westchester Residential Opportunities, Inc., 470 Mamaroneck Avenue, Suite 410, White Plains, NY 10605 | Geoffrey Anderson, 914-428-4507 | 2 | 325,000.00
Baltimore Neighborhoods, Inc., 2530 St. Paul Street, Baltimore, MD 21218 | Barbara Wilson, 410-243-4468 | 3 | 325,000.00
Community Legal Aid Society, Inc., 100 West 10th Street, Suite 801, Wilmington, DE 19801 | William Dunne, 302-575-0660 | 3 | 322,449.00
Equal Rights Center, 11 Dupont Circle NW., Washington, DC 20036 | Melissa Rothstein, 202-370-3202 | 3 | 325,000.00
Fair Housing Council of Suburban Philadelphia, Inc., 455 Maryland Drive, Suite 190, Fort Washington, PA 19034 | James Berry, 267-419--8918 | 3 | 325,000.00
Fair Housing Partnership of Greater Pittsburgh, 2840 Liberty Avenue, Suite 205, Pittsburgh, PA 15222 | Peter Harvey, 412-391-2535 | 3 | 325,000.00
Fair Housing Rights Center in Southeastern Pennsylvania, 444 N. 3rd Street, Suite 110, Philadelphia, PA 19123 | Angela McIver, 215-576-7711 | 3 | 324,000.00
Housing Opportunities Made Equal of Virginia, Inc., 626 E. Broad Street, Suite 400, Richmond, VA 23219 | Andrew Haugh, 804-237-7542 | 3 | 325,000.00
National Community Reinvestment Coalition, Inc., 727 15th Street, NW., Suite 900, Washington, DC 20005 | Samira Cook Gaines, 202-628-8866 | 3 | 324,365.00
National Fair Housing Alliance, 1101 Vermont Avenue NW., Washington, DC 20005 | Catherine Cloud, 202-898-1661 | 3 | 324,867.00
Northern West Virginia Center for Independent Living, 601 East Brockway Avenue, Morgantown, WV 26501 | Jan Derry, 304-296-6091 | 3 | 324,956.00
Southwestern Pennsylvania Legal Services, Inc., 10 West Cherry Avenue, Washington, PA 15301 | G. Clayton Nestler, 724-225-6170 | 3 | 325,000.00
Bay Area Legal Services, Inc., 1302 North 19th Street, Suite 400, Tampa, FL 33603 | Migdalia Figueroa, 813-232-1222 | 4 | 325,000.00
Central Alabama Fair Housing Center, 2867 Zelda Road, Montgomery, AL 36106 | Faith Cooper, 334-263-4663 | 4 | 324,000.00
Community Legal Services of Mid-Florida, Inc., 128 Orange Avenue, Daytona Beach, FL 32114 | Suzanne Edmunds, 386-255-6573 | 4 | 325,000.00
Fair Housing Center of the Greater Palm Beaches, Inc., 1300 W. Lantana Road, Suite 200, Lantana, FL 33462 | Vince Larkin, 561-533-8717 | 4 | 321,723.00
Fair Housing Continuum, Inc., 4760 N. Hwy. US 1, Suite 203, Melbourne, FL 32935 | David Baade, 321-757-3532 | 4 | 325,000.00
Housing Opportunities Project for Excellence, Inc., 11501 NW., 2nd Avenue, Miami, FL 33168 | Keenya Robertson, 305-759-7755 | 4 | 325,000.00
Jacksonville Area Legal Aid, Inc., 126 West Adams Street, Jacksonville, FL 32202 | James Kowalski, 904-356-8371 | 4 | 424,979.00
Legal Aid of North Carolina, Inc., 224 S. Dawson Street, Raleigh, NC 27601 | Jeffrey Dillman, 919-861-1884 | 4 | 325,000.00
Legal Aid Society of Palm Beach County, Inc., 423 Fern Street, Suite 200, West Palm Beach, FL 33401 | Robert Bertisch, 561-655-8944 | 4 | 325,000.00
Lexington Fair Housing Council, Inc., 207 E. Reynolds Road, Suite 130, Lexington, KY 40517 | Arthur Crosby, 859-971-8067 | 4 | 324,673.00
Metro Fair Housing Services, Inc., 175 Trinity Avenue, Atlanta, GA 30303 | Gail Williams, 404-524-0000 | 4 | 325,000.00
Mobile Fair Housing Center, Inc., P.O. Box 161202, Mobile, AL 36616 | Teresa Bettis, 251-479-1532 | 4 | 319,795.00
Tennessee Fair Housing Council, Inc., 107 Music City Circle, Suite 318, Nashville, TN 37214 | Tracey McCartney, 615-874-2344 | 4 | 325,000.00
West Tennessee Legal Services, Inc., 210 West Main Street, Jackson, TN 38301 | Jane Jarvis, 731-426-1311 | 4 | 325,000.00
Access Living of Metropolitan Chicago, 115 West Chicago Avenue, Chicago, IL 60654 | Jason Gilmore, 312-640-2185 | 5 | 325,000.00
Chicago Lawyers' Committee for Civil Rights Under Law, Inc., 100 North LaSalle Street, Suite 600, Chicago, IL 60602 | Jay Readey, 312-630-2185 | 5 | 325,000.00
Fair Housing Center of Central Indiana, Inc., 615 N. Alabama Street, Suite 426, Indianapolis, IN 46204 | Amy Nelson, 317-644-0673 | 5 | 325,000.00
Fair Housing Center of Metropolitan Detroit, 220 Bagley Street, Suite 102, Detroit, MI 48226 | Margaret Brown, 313-963-1274 | 5 | 310,270.00
Fair Housing Center of Southeastern Michigan, P.O. Box 7825, Ann Arbor, MI 48107 | Pamela Kisch, 734-994-3426 | 5 | 324,944.00
Fair Housing Center of Southwest Michigan, 405 W. Michigan, Kalamazoo, MI 49007 | Robert Ells, 269-276-9100 | 5 | 325,000.00
Fair Housing Center of West Michigan, 20 Hall Street SE., Grand Rapids, MI 49507 | Nancy Haynes, 616-451-2980 | 5 | 325,000.00
Fair Housing Contact Services, Inc., 441 Wolf Ledges Parkway, Suite 200, Akron, OH 44311 | Tamala Skipper, 330-376-6191 | 5 | 325,000.00
Fair Housing Opportunities, Inc., dba Fair Housing Center, 432 N. Superior, Toledo, OH 43604 | Michael Fehlen, 419-243-6163 | 5 | 325,000.00
Fair Housing Resource Center, Inc., 1100 Mentor Avenue, Painesville, OH 44077 | Patricia Kidd, 440-392-0147 | 5 | 325,000.00
HOPE Fair Housing Center, 245 W. Roosevelt Road, Building 15, Suite 107, West Chicago, IL 60185 | Anne Houghtaling, 630-690-6500 | 5 | 325,000.00
Housing Opportunities Made Equal of Greater Cincinnati, Inc., 2400 Reading Road, Suite 118, Cincinnati, OH 45202 | Elizabeth Brown, 513-721-4663 | 5 | 324,530.00
Housing Research and Advocacy Center, 2728 Euclid Avenue, Suite 200, Cleveland, OH 44115 | Hilary King, 216-361-9240 | 5 | 325,000.00
John Marshall Law School, 315 S. Plymouth Court, Chicago, IL 60604 | Michael Seng, 312-986-2397 | 5 | 279,951.00
Legal Services of Eastern Michigan, 436 S. Saginaw Street, Suite 101, Flint, MI 48502 | Jill Nylander, 810-234-2621 | 5 | 322,047.00
Metropolitan Milwaukee Fair Housing Council, Inc., 600 East Mason Street, Milwaukee, WI 53202 | William Tisdale, 414-278-1240 | 5 | 325,000.00
Miami Valley Fair Housing Center, Inc., 505 Riverside Drive, Dayton, OH 45405 | Jim McCarthy, 937-223-6035 | 5 | 325,000.00
Mid-Minnesota Legal Assistance, 430 First Avenue North, Suite 300, Minneapolis, MN 55401 | Lisa Cohen, 612-746-3770 | 5 | 325,000.00
Open Communities, 614 Lincoln Avenue, Winnetka, IL 60093 | Gail Schechter, 847-501-5760 | 5 | 316,389.00
Prairie State Legal Services, Inc., 303 N. Main Street, Suite 600, Rockford, IL 61101 | David Wolowitz, 630-580-3309 | 5 | 325,000.00
South Suburban Housing Center, 18220 Harwood Avenue, Suite 1, Homewood, IL 60430 | John Petruszak, 708-957-4674 | 5 | 325,000.00
Austin Tenants Council Inc., 1640B E. Second Street, Suite 150, Austin, TX 78702 | Katherine Starks, 512-474-7007 | 6 | 324,742.00
Greater Houston Fair Housing Center, Inc., P.O. Box 292, 1900 Kane Street, Room 111, Houston, TX 77001 | Daniel Bustamente, 713-641-3247 | 6 | 325,000.00
Greater New Orleans Fair Housing Action Center, Inc., 404 South Jefferson Davis Parkway, New Orleans, LA 70119 | James Perry, 504-596-2100 | 6 | 325,000.00
Metropolitan Fair Housing Council of Oklahoma, Inc., 1500 NE. 4th Street, Suite 204, Oklahoma City, OK 73117 | Mary Dulan, 405-232-3247 | 6 | 324,479.00
San Antonio Fair Housing Council, Inc., 4414 Centerview Drive, Suite 229, San Antonio, TX 78228 | Sandra Tamez, 210-733-3247 | 6 | 375,000.00
Family Housing Advisory Services, Inc., 2401 Lake Street, Omaha, NE 68111 | Joseph Garcia, 402-934-9996 | 7 | 325,000.00
Metropolitan St. Louis Equal Housing and Opportunity Council, 1027 S. Vandeventer Avenue, 6th Floor, St. Louis, MO 63110 | Willie Jordan, 314-448-9063 | 7 | 324,996.00
Disability Law Center, 205 N. 400 W., Salt Lake City, UT 84103 | Adina Zahradnikova, 801-363-1347 | 8 | 234,297.00
Montana Fair Housing, Inc., 519 East Front Street, Butte, MT 59701 | Pamela Bean, 406-782-2573 | 8 | 205,838.00
Arizona Fair Housing Center, 615 N. 5th Avenue, Phoenix, AZ 85003 | Kanitta Padilla, 602-548-1599 | 9 | 320,430.00
Bay Area Legal Aid, 1735 Telegraph Avenue, Oakland, CA 94612 | Jaclyn Pinero, 510-250-5229 | 9 | 325,000.00
California Rural Legal Assistance, Inc., 2201 Broadway, Suite 815, Oakland, CA 94105 | Susan Podesta, 530-742-5191 | 9 | 325,000.00
Fair Housing Council of Central California, 333 W. Shaw Avenue, Suite 14, Fresno, CA 93704 | Marilyn Borelli, 559-244-2950 | 9 | 319,892.00
Fair Housing Council of Riverside County, Inc., 3933 Mission Inn Avenue, Riverside, CA 92501 | Rose Mayes, 503-223-8197 | 9 | 284,894.00
Fair Housing of Marin, 1314 Lincoln Avenue, San Rafael, CA 94901 | Caroline Peattie, 415-457-5025 | 9 | 324,998.00
Greater Bakersfield Legal Assistance, Inc., 615 California Avenue, Bakersfield, CA 93304 | Estela Casas, 661-334-4660 | 9 | 302,069.00
Inland Mediation Board, 1500 South Haven Avenue, Suite 101, Ontario, CA 91761 | Lynne Anderson, 909-984-2254 | 9 | 325,000.00
Legal Aid Society of Hawaii, 924 Bethel Street, Honolulu, HI 96813 | Elise Von Dohlen, 808-527-8056 | 9 | 325,000.00
Legal Aid Society of San Diego, Inc., 110 S. Euclid Avenue, San Diego, CA 92114 | Branden Butler, 619-417-2623 | 9 | 323,491.00
Orange County Fair Housing Council, 201 S. Broadway, Santa Ana, CA 92701 | David Levy, 714-569-0823 | 9 | 320,820.00
Project Sentinel Inc., 1490 Camino Real, Santa Clara, CA 95050 | Ann Marquart, 888-324-7468 | 9 | 325,000.00
Southern California Housing Rights Center, 3255 Wilshire Blvd., Los Angeles, CA 90010 | Chancela Al-Mansour, 213-387-8400 | 9 | 325,000.00
Southwest Fair Housing Council, 2030 E. Broadway Blvd., Suite 101, Tucson, AZ 85719 | Jay Young, 520-798-1568 | 9 | 311,245.00
Fair Housing Center of Washington, 1517 South Fawcett, Suite 200, Tacoma, WA 98302 | Lauren Walker, 253-274-9523 | 10 | 325,000.00
Fair Housing Council of Oregon, 1221 SW Yamhill Street, Suite 305, Portland, OR 97204 | Pegge McGuire, 503-223-8197 | 10 | 325,000.00
Intermountain Fair Housing Council, Inc., 5460 W. Franklin Road, Suite M 200, Boise, ID 83702 | Zoe Olson, 208-383-0695 | 10 | 324,630.00
Northwest Fair Housing Alliance, 35 W. Main, Spokane, WA 99201 | Marley Hochendoner, 509-209-2667 | 10 | 325,000.00

[FR Doc. 2015-09619 Filed 4-23-15; 8:45 am]

BILLING CODE 4210-67-P